DEPARTMENT OF LABOR

Employment and Training Administration

[TA-W-82,697]

AT&T Corporation, a Subsidiary of AT&T Inc., Business Billing Customer Care, Pittsburgh, Pennsylvania; Notice of Affirmative Determination Regarding Application for Reconsideration

By application dated July 8, 2013, the Communication Workers of America Union, Local 13550, requested administrative reconsideration of the negative determination regarding workers' eligibility to apply for Trade Adjustment Assistance (TAA) applicable to workers and former workers of AT&T Corporation, a subsidiary of AT&T Inc., Business Billing Customer Care, Pittsburgh, Pennsylvania (subject firm). The determination was issued on June 6, 2013. The Department's Notice of determination was published in the Federal Register on July 2, 2013 (78 FR 39776). Workers at the subject firm were engaged in activities related to the supply of billing inquiry and billing dispute resolution services.

The negative determination was based on the Department's findings, with respect to Section 222(a)(2)(A)(ii) of the Trade Act of 1974, as amended (the Act), of no increased imports, during the relevant period, of services like or directly competitive with those supplied by the subject workers.

With respect to Section 222(a)(2)(B) of the Act, the initial investigation revealed that the subject firm has not shifted the supply of services like or directly competitive with the billing inquiry and billing dispute resolution services supplied by the workers to a foreign country or acquired the supply of like or directly competitive services from a foreign country.

Rather, the initial investigation confirmed that the worker separations are attributable to a shift of the services supplied by Business Billing Customer Care to other locations within the United States.

With respect to Section 222(b)(2) of the Act, the initial investigation revealed that the subject firm is not a Supplier to, or act as a Downstream Producer to, a firm that employed a group of workers who received a certification of eligibility under Section 222(a) of the Act, 19 U.S.C. 2272(a).

Finally, the initial investigation revealed that the group eligibility requirements under Section 222(e) of the Act have not been satisfied because the workers' firm has not been publicly identified by name by the International Trade Commission as a member of a domestic industry in an investigation resulting in an affirmative finding of serious injury, market disruption, or material injury, or threat thereof.

The request for reconsideration alleges that the subject firm has shifted billing services, ordering services, and/or customer support services to Slovakia, Mexico, India, and/or the Philippines. The petitioner also supplied additional information in regard to employment figures at the aforementioned locations.

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 23rd day of October, 2013.
Del Min Amy Chen,
Certifying Officer, Office of Trade Adjustment Assistance.

[FR Doc. 2013-27934 Filed 11-20-13; 8:45 am]

BILLING CODE 4510-FN-P